FEDERAL COMMUNICATIONS COMMISSION

47 CFR Part 54

[WC Docket Nos. 10-90, 14-58 and CC Docket No. 01-92; Report No. 3047]

Petitions for Reconsideration and Clarification of Action in Rulemaking Proceeding

AGENCY: Federal Communications Commission.

ACTION: Petitions for reconsideration and clarification.

SUMMARY: Petitions for Reconsideration and Clarification (Petitions) have been filed in the Commission's rulemaking proceeding by Mary J. Sisak on behalf of Custer Telephone Cooperative, Inc., et al, Michael R. Romano on behalf of NTCA-The Rural Broadband Association, Robert W. Schwartz on behalf of Madison Telephone Company, Derrick B. Owens on behalf of WTA-Advocates For Rural Broadband.

DATES: Oppositions to the Petitions must be filed on or before August 15, 2016. Replies to an opposition must be filed on or before August 8, 2016.

ADDRESSES: Federal Communications Commission, 445 12th Street SW., Washington, DC 20554.

FOR FURTHER INFORMATION CONTACT: Suzanne Yelen, Wireline Competition Bureau, (202) 418-7400, email: Suzanne.Yelen@fcc.gov.

SUPPLEMENTARY INFORMATION: This is a summary of Commission's document, Report No. 3047, released July 11, 2016. The full text of the Petitions is available for viewing and copying at the FCC Reference Information Center, 445 12th Street SW., Room CY-A257, Washington, DC 20554 or may be accessed online via the Commission's Electronic Comment Filing System at https://www.fcc.gov/ecfs/. The Commission will not send a copy of this Notice pursuant to the Congressional Review Act, 5 U.S.C. 801(a)(1)(A), because this Notice does not have an impact on any rules of particular applicability.

Subject: Connect America Fund; ETC Annual Reports and Certifications; Developing an Unified Intercarrier Compensation Regime, FCC 16-33, published at 81 FR 24282, April 25, 2016, in WC Docket Nos. 10-90 and 14-58; CC Docket No. 01-92. This Notice is being published pursuant to 47 CFR 1.429(e). See also 47 CFR 1.4(b)(1) and 1.429(f), (g).

Number of Petitions Filed: 4.

Federal Communications Commission.
Marlene H. Dortch,
Secretary.

[FR Doc. 2016-17900 Filed 7-28-16; 8:45 am]

BILLING CODE 6712-01-P